DEPARTMENT OF ENERGY

Office of Energy Efficiency and Renewable Energy

10 CFR Part 430

[Docket Number: EE-RM/STD-01-375]

RIN 1904-AB06

Energy Efficiency Program for Consumer Products: Energy Conservation Standards for Commercial Unitary Air Conditioners and Heat Pumps

AGENCY: Office of Energy Efficiency and Renewable Energy, Department of Energy.

ACTION: Notice of rescheduling of public workshop and extension of time to submit comments.

SUMMARY: This document: (1) Announces a new date of Monday, October 1, 2001, for the informal public workshop on commercial unitary air conditioner and heat pump efficiency standards originally scheduled for Wednesday, September 12, 2001; and (2) extends the time period to November 1, 2001, for submitting comments regarding the Framework Document, as described in a previous announcement on Friday, August 17, 2001 in the Federal Register. (66 FR 43123).

DATES: The public workshop originally scheduled for Wednesday, September 12, 2001 in Washington, DC, has been rescheduled for Monday, October 1, 2001 in Washington, DC at 9 a.m. to 5 p.m. Written comments must be received on or before Thursday, November 1, 2001.

ADDRESSES: The workshop will be held at the U.S. Department of Energy, Forrestal Building, Room 1E-245, 1000 Independence Avenue, SW, Washington, DC 20585. (Please note that foreign nationals visiting DOE Headquarters are subject to advance security screening procedures. If you are a foreign national and wish to participate in the workshop, please inform DOE of this fact as soon as possible by contacting Ms. Brenda Edwards-Jones at (202) 586-2945 so that the necessary procedures can be completed.)

A limited number of call-in phone lines will be provided for the October 1, 2001, workshop from 9 a.m. to 5 p.m. for those unable to travel. Please contact Ms. Brenda Edwards-Jones at (202) 586-2945 to obtain the call-in phone number.

On June 18, 2001, the draft Framework Document was placed on the DOE website at: http://www.eren.doe.gov/buildings/codes_standards/index.htm.

Written comments are welcome, especially following the workshop. Please submit written comments to: Ms. Brenda Edwards-Jones, U.S. Department of Energy, Office of Energy Efficiency and Renewable Energy, Energy Conservation Program for Consumer Products: Energy Conservation Standards for Commercial Unitary Air Conditioners and Heat Pumps, Docket Number: EE-RM/STD-01-375, EE-41, 1000 Independence Avenue, SW., Washington, DC 20585-0121. Telephone: (202) 586-2945; Telefax: (202) 586-4617. You should label comments both on the envelope and on the documents and submit them for DOE receipt by November 1, 2001. Please submit one signed copy and a computer diskette (WordPerfect 8) or 10 copies (no telefacsimiles). The Department will also accept electronically-mailed comments, e-mailed to Brenda.Edwards-Jones@ee.doe.gov, but you must supplement such comments with a signed hard copy.

Copies of the transcript of the public workshop, the public comments received, the Framework Document, and this notice may be read at the Freedom of Information Reading Room, U.S. Department of Energy, Forrestal Building, Room 1E-190, 1000 Independence Avenue, SW., Washington, DC 20585, (202) 586-3142, between the hours of 9 a.m. and 4 p.m., Monday through Friday, except Federal holidays.

FOR FURTHER INFORMATION CONTACT: Bryan Berringer, U.S. Department of Energy, Office of Energy Efficiency and Renewable Energy, EE-41, 1000 Independence Avenue, SW., Washington, DC 20585-0121, (202) 586-0371, email: bryan.berringer@ee.doe.gov, or Francine Pinto, U.S. Department of Energy, Office of General Counsel, GC-72, 1000 Independence Avenue, SW., Washington, DC 20585-0103, (202) 586-7432, email: francine.pinto@hq.doe.gov.

Issued in Washington, DC, on September 21, 2001.
David K. Garman,
Assistant Secretary for Energy Efficiency and Renewable Energy.

[FR Doc. 01-24226 Filed 9-26-01; 8:45 am]

BILLING CODE 6450-01-P